DEPARTMENT OF STATE

[Public Notice: 10750]

Notice of Determinations; Culturally Significant Object Imported for Exhibition—Determinations: “Paganini in Columbus” Exhibition and “Il Cannone With the Columbus Symphony” Concert Assembly

SUMMARY: Notice is hereby given of the following determinations: I hereby determine that a certain object to be included in the exhibition “Paganini in Columbus,” and in the concert assembly “Il Cannone with the Columbus Symphony,” imported from abroad for temporary exhibition within the United States, is of cultural significance. The object is imported pursuant to a loan agreement with the foreign owner or custodian. I also determine that the exhibition or display of the object at the Columbus Museum of Art, Columbus, Ohio, from on or about May 11, 2019, until on or about May 19, 2019, at the Ohio Theatre, Columbus, Ohio, on or about the evening of May 15, 2019, and at possible additional exhibitions or venues yet to be determined, is in the national interest. I have ordered that Public Notice of these determinations be published in the Federal Register.

FOR FURTHER INFORMATION CONTACT: Elliot Chiu, Attorney-Adviser, Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Marie Therese Porter Royce,
Assistant Secretary, Educational and Cultural Affairs, Department of State.

[FR Doc. 2019-08412 Filed 4-25-19; 8:45 am]

BILLING CODE 4710-05-P